FEDERAL EMERGENCY MANAGEMENT AGENCY

44 CFR Part 65

[Docket No. FEMA-P-7608]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Acting Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (E-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR part 10, Environmental Consideration. No environmental impact assessment has been prepared.

Regulatory Flexibility Act. The Acting Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and record keeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and County | Location | Dates and name of newspaper where notice was published | Chief executive officer of community | Effective date of modification | Community No.
Arkansas: Craighead | City of Jonesboro | Sept. 4, 2001, Sept. 11, 2001, Jonesboro Sun | The Honorable Hubert Brodell, Mayor, City of Jonesboro, P.O. Box 1845, Jonesboro, Arkansas 72403-1845 | Aug. 15, 2001 | 050048
Indiana:
Howard | Unincorporated Areas | Oct. 23, 2001, Oct. 30, 2001, Kokomo Tribune | Mr. John Harbaugh, President, Howard County Board of Commissioners, 230 North Main, Kokomo, Indiana 46901 | Oct. 12, 2001 | 180414
Howard | City of Kokomo | Oct. 23, 2001, Oct. 30, 2001, Kokomo Tribune | The Honorable James Trobaugh, Mayor, City of Kokomo, 100 South Union Street, Kokomo, Indiana 46901 | Oct. 12, 2001 | 180093
Minnesota: Winona | Unincorporated Areas | Dec. 21, 2001, Dec. 28, 2001 Winona Daily News | Mr. David Stoltman, Chairperson, Winona County, Board of Commissioners, 177 Main Street, Winona, Minnesota 55987 | Mar. 29, 2002 | 270525
Missouri:
St. Charles | City of Cottleville | Oct. 5, 2001, Oct. 12, 2001, St. Charles Journal | The Honorable Robert Powers, Mayor, City of Cottleville, P.O. Box 387, Cottleville, Missouri 63338 | Jan. 11, 2002 | 290898
St. Charles | Unincorporated Areas | Oct. 5, 2001, Oct. 12, 2001, St. Charles Journal | Mr. Joe Ortwerth, County Executive, St. Charles County, 201 North Second Street, St. Charles, Missouri 63301 | Jan. 11, 2002 | 290315
Ohio: Lorain | City of Avon Lake | Oct. 24, 2001, Oct. 31, 2001, Morning Journal | The Honorable Robert Berner, Mayor, City of Avon Lake, 150 Avon Belden Road,Avon Lake, Ohio 44012-1699 | Jan. 30, 2002 | 390602
Oklahoma:
Tulsa | City of Broken Arrow | Oct. 18, 2001, Oct. 25, 2001, Broken Arrow Ledger | The Honorable James Reynolds, Mayor, City of Broken Arrow, P.O. Box 610 Broken Arrow, Oklahoma 74013 | Jan. 24, 2002 | 400236
Tulsa | City of Broken Arrow | Nov. 1, 2001, Nov. 8, 2001, Broken Arrow Ledger | The Honorable James Reynolds, Mayor, City of Broken Arrow, 220 South First Street, Broken Arrow, Oklahoma 74012 | Feb. 7, 2002 | 400236
Oklahoma | City of Edmond | Nov. 1, 2001, Nov. 8, 2001, Edmond Sun | The Honorable Saundra Naifeh, Mayor, City of Edmond, P.O. Box 2970, Edmond, Oklahoma 73080 | Oct. 15, 2001 | 400252
Oklahoma | City of Oklahoma City | Dec. 5, 2001, Dec. 12, 2001, Daily Oklahoman | The Honorable Kirk Humphreys, Mayor, City of Oklahoma City, 200 North Walker, Suite 302, Oklahoma City, Oklahoma 73102 | Mar. 13, 2002 | 405378
Texas:
Dallas and Ellis | City of Cedar Hill | Oct. 19, 2001, Oct. 26, 2001, Southwest Morning News | The Honorable Robert L. Franke, Mayor, City of Cedar Hill, P.O. Box 96, Cedar Hill, Texas 75106 | Jan. 24, 2002 | 480168
Comal | Unincorporated Areas | Nov. 16, 2001, Nov. 23, 2001, New Braunfels Herald-Zeitung | The Honorable Danny Scheel, Judge, Comal County, 150 North Seguin Street, New Braunfels, Texas 78130 | Feb. 22, 2002 | 485463
Denton | City of Denton | Nov. 14, 2001, Nov. 21, 2001, Denton Record Chronicle | The Honorable Euline Brock, Mayor, City of Denton, 215 East McKinney Street, Denton, Texas 76201 | Feb. 20, 2002 | 480194
Collin | City of Frisco | Dec. 12, 2001, Dec. 19, 2001, Plano Star Courier | The Honorable Kathy Seei, Mayor, City of Frisco, 6891 Main Street, Frisco, Texas 75034 | Mar. 20, 2002 | 480134
Dallas | City of Garland | Dec. 21, 2001, Dec. 28, 2001, Garland Morning News | The Honorable Jim Spence, Mayor, City of Garland, P.O. Box 469002, Garland, Texas 75046-9002 | Nov. 9, 2001 | 485471
Dallas and Ellis | City of Grand Prairie | Oct. 19, 2001, Oct. 26, 2001, Arlington Morning News | The Honorable Charles England, Mayor, City of Grand Prairie, 317 College Street, P.O. Box 534045, Grand Prairie, Texas 75053-4045 | Jan. 24, 2002 | 485472
Ellis, Tarrant, and Dallas | City of Grand Prairie | Nov. 14, 2001, Nov. 21, 2001, Arlington Morning News | The Honorable Charles England, Mayor, City of Grand Prairie, 317 College Street, P.O. Box 534045, Grand Prairie, Texas 75053-4045 | Oct. 17, 2001 | 485472
Harris | Unincorporated Areas | Nov. 8, 2001, Nov. 15, 2001, Houston Chronicle | The Honorable Robert Eckels, Judge, Harris County, 1001 Preston Street, Suite 911, Houston, Texas 77002 | Feb. 14, 2002 | 480287
Dallas | City of Irving | Dec. 20, 2001, Dec. 27, 2001, Irving Morning News | The Honorable Joe H. Putnam, Mayor, City of Irving, P.O. Box 152288, 825 West Irving Boulevard, Irving, Texas 75015-2288 | Mar. 28, 2002 | 480180
Galveston | City of League City | Dec. 13, 2001, Dec. 20, 2001, Galveston County Daily News | The Honorable A.T. Frankovich, Mayor, City of League City, City Hall, Suite 216, 200 West Walker, League City, Texas 77573 | Mar. 21, 2002 | 485488
Ellis | City of Midlothian | Nov. 8, 2001, Nov. 15, 2001, Midlothian Mirror | The Honorable David Setzer, Mayor, City of Midlothian, 104 West Avenue E, Midlothian, Texas 76065-0000 | Feb. 14, 2002 | 480801
Parker | Unincorporated Areas | Sept. 12, 2001, Sept. 19, 2001, Weatherford Democrat | The Honorable Mark Riley, Judge, Parker County, 1 Court House Square, Weatherford, Texas 76086 | Aug. 9, 2001 | 480520
Collin and Dallas | City of Richardson | Nov. 20, 2001, Nov. 27, 2001, Dallas Morning News | The Honorable Gary A. Slagel, Mayor, City of Richardson, P.O. Box 830309, Richardson, Texas 75083-0309 | Feb. 26, 2002 | 480184
Bexar | City of San Antonio | Dec. 21, 2001, Dec. 28, 2001, San Antonio Express News | The Honorable Ed Garza, Mayor, City of San Antonio, P.O. Box 839966, San Antonio, Texas 78283-3966 | Mar. 29, 2002 | 480045

(Catalog of Federal Domestic Assistance No. 83.100, “Flood Insurance”)

Dated: January 8, 2002.
Robert F. Shea,
Acting Administrator, Federal Insurance and Mitigation Administration.

[FR Doc. 02-803 Filed 1-11-02; 8:45 am]

BILLING CODE 6718-04-P